DEPARTMENT OF ENERGY

Federal Energy Regulatory Commission

Combined Notice of Filings # 1

February 2, 2009.

Take notice that the Commission received the following electric rate filings:

Docket Numbers: ER99-3151-011; ER97-837-010; ER03-327-005; ER08-447-003; ER08-448-003.

Applicants: PSEG Energy Resources & Trade LLC, Public Service Electric and Gas Company, PSEG Fossil LLC, PSEG Nuclear LLC, PSEG Power Connecticut LLC.

Description: Notice of Change in Status of the PSEG Sellers.

Filed Date: 01/29/2009.

Accession Number: 20090129-5107.

Comment Date: 5 p.m. Eastern Time on Thursday, February 19, 2009.

Docket Numbers: ER03-409-006; ER03-666-005; ER04-109-001; ER05-1284-003; ER06-1325-001.

Applicants: Pacific Gas & Electric Company.

Description: Compliance Filing and Refund Report of Pacific Gas and Electric Company.

Filed Date: 01/30/2009.

Accession Number: 20090130-5018.

Comment Date: 5 p.m. Eastern Time on Friday, February 20, 2009.

Docket Numbers: ER03-534-009.

Applicants: Ingenco Wholesale Power, LLC.

Description: Ingenco Wholesale Power, LLC Application for a Finding of Category 1 Seller Status.

Filed Date: 01/30/2009.

Accession Number: 20090130-5164.

Comment Date: 5 p.m. Eastern Time on Friday, February 20, 2009.

Docket Numbers: ER05-1178-014; ER05-1191-015.

Applicants: Union Power Partners, L.P., Gila River Power, L.P.

Description: Notice of Non-Material Change in Status of Gila River Power, L.P. and Union Power Partners, L.P.

Filed Date: 01/29/2009.

Accession Number: 20090129-5091.

Comment Date: 5 p.m. Eastern Time on Thursday, February 19, 2009.

Docket Numbers: ER06-510-003.

Applicants: Energy Endeavors LLC.

Description: Energy Endeavors, LLC, Notice of Non-Material Change in Status.

Filed Date: 01/30/2009.

Accession Number: 20090130-5253.

Comment Date: 5 p.m. Eastern Time on Friday, February 20, 2009.

Docket Numbers: ER06-1014-007.

Applicants: New York Independent System Operator, Inc.

Description: New York Independent System Operator, Inc. submits Price Validation Informational Report from the period 8/1/08 through 12/31/08 pursuant to FERC's 7/14/06 Order.

Filed Date: 01/30/2009.

Accession Number: 20090130-5137.

Comment Date: 5 p.m. Eastern Time on Friday, February 20, 2009.

Docket Numbers: ER07-1136-001.

Applicants: Camp Grove Wind Farm LLC.

Description: Errata filing to add Attachment C inadvertently omitted from Camp Grove Wind Farm LLC.

Filed Date: 01/30/2009.

Accession Number: 20090130-5251.

Comment Date: 5 p.m. Eastern Time on Friday, February 20, 2009.

Docket Numbers: ER07-1356-008; ER07-1112-006; ER07-1113-006; ER07-1115-007; ER07-1116-005; ER07-1117-007; ER07-1118-007; ER07-1120-007; ER07-1122-007; ER00-2885-022; ER01-2765-021; ER02-1582-019; ER02-2102-021; ER03-1283-016; ER05-1232-016; ER07-1358-007; ER08-148-007; ER09-335-002.

Applicants: BE Alabama LLC; BE Allegheny LLC; BE CA LLC; BE Colquitt LLC; BE Ironwood LLC; BE KJ LLC; BE Rayle LLC; BE Satilla LLC; BE Walton LLC; Cedar Brakes I, L.L.C.; Cedar Brakes II, L.L.C.; Mohawk River Funding IV, L.L.C.; Utility Contract Funding, L.L.C.; Vineland Energy LLC; J.P. Morgan Ventures Energy Corporation; BE Louisiana LLC; Central Power & Lime, Inc.; J.P. Morgan Ventures Energy Corporation.

Description: Notice of Non-Material Change in Status of BE Alabama LLC, et al.

Filed Date: 01/29/2009.

Accession Number: 20090129-5122.

Comment Date: 5 p.m. Eastern Time on Thursday, February 19, 2009.

Docket Numbers: ER08-513-003.

Applicants: Entergy Services, Inc.

Description: Entergy Operating Companies submits its compliance filing in accordance with FERC's 5/5/08 Order.

Filed Date: 01/16/2009.

Accession Number: 20090122-0202.

Comment Date: 5 p.m. Eastern Time on Friday, February 6, 2009.

Docket Numbers: ER09-578-000.

Applicants: Southern California Edison Company.

Description: Southern California Edison Company submits revised rate sheet to the Mansana Wind Project Engineering, Design and Procurement Second Amended Letter Agreement between SCE and PPM Energy, Inc to reflect the cancellation of the agreement.

Filed Date: 01/28/2009.

Accession Number: 20090130-0129.

Comment Date: 5 p.m. Eastern Time on Wednesday, February 18, 2009.

Docket Numbers: ER09-579-000.

Applicants: Florida Power Corporation.

Description: Florida Power Corporation submits executed interconnection agreement with Kissimmee Utility Authority.

Filed Date: 01/28/2009.

Accession Number: 20090130-0130.

Comment Date: 5 p.m. Eastern Time on Wednesday, February 18, 2009.

Docket Numbers: ER09-580-000.

Applicants: Bangor Hydro-Electric Company.

Description: Bangor Hydro Electric Company submits request for a waiver of the Standards of Conduct for Transmission Providers.

Filed Date: 01/28/2009.

Accession Number: 20090130-0131.

Comment Date: 5 p.m. Eastern Time on Wednesday, February 18, 2009.

Docket Numbers: ER09-581-000.

Applicants: Pacific Gas & Electric Company.

Description: Pacific Gas and Electric Co submits agreements for load interconnection facilities executed with City and County of San Francisco.

Filed Date: 01/29/2009.

Accession Number: 20090130-0132.

Comment Date: 5 p.m. Eastern Time on Thursday, February 19, 2009.

Docket Numbers: ER09-582-000.

Applicants: American Electric Power Service Corporation.

Description: AEP Operating Companies submits revisions to the Repair and Maintenance Agreement with Indiana Michigan Power Company and Wabash Valley Power Association.

Filed Date: 01/28/2009.

Accession Number: 20090130-0167.

Comment Date: 5 p.m. Eastern Time on Wednesday, February 18, 2009.

Docket Numbers: ER09-583-000.

Applicants: ITC Midwest LLC

Description: ITC Midwest LLC submits an executed Distribution-Transmission Interconnection Agreement with Interstate Power and Light Company.

Filed Date: 01/28/2009.

Accession Number: 20090130-0170.

Comment Date: 5 p.m. Eastern Time on Wednesday, February 18, 2009.

Docket Numbers: ER09-584-000.

Applicants: Bangor Hydro-Electric Company.

Description: Bangor Hydro Electric Company submits revisions to its local service schedule set fourth as Schedule 21-BHE in the ISO New England Inc Transmission, Markets and Services Tariff.

Filed Date: 01/28/2009.

Accession Number: 20090130-0166.

Comment Date: 5 p.m. Eastern Time on Wednesday, February 18, 2009.

Docket Numbers: ER09-586-000.

Applicants: Black Hills Power, Inc.

Description: Black Hills Power, Inc submits proposed amendments to the joint open access transmission tariff with Basin Electric Power Cooperative et al.

Filed Date: 01/29/2009.

Accession Number: 20090202-0527.

Comment Date: 5 p.m. Eastern Time on Thursday, February 19, 2009.

Docket Numbers: ER09-587-000.

Applicants: Ameren Services Company.

Description: Union Electric Company submits an Executed Service Agreement for Wholesale Distribution Service with City of Owensville, Missouri.

Filed Date: 01/29/2009.

Accession Number: 20090202-0526.

Comment Date: 5 p.m. Eastern Time on Thursday, February 19, 2009.

Docket Numbers: ER09-588-000.

Applicants: Ameren Services Company.

Description: Union Electric Company submits an Executed Service Agreement for Wholesale Distribution Service with the City of Jackson, Missouri.

Filed Date: 01/29/2009.

Accession Number: 20090202-0525.

Comment Date: 5 p.m. Eastern Time on Thursday, February 19, 2009.

Docket Numbers: ER09-599-000.

Applicants: Duke Energy Carolinas, LLC.

Description: Duke Energy Carolinas, LLC submits revised Network Integration Transmission Service Agreement 210 with North Carolina Electric Membership Corporation etc.

Filed Date: 01/30/2009.

Accession Number: 20090202-0610.

Comment Date: 5 p.m. Eastern Time on Friday, February 20, 2009.

Take notice that the Commission received the following electric securities filings:

Docket Numbers: ES09-12-000.

Applicants: AEP Texas Central Company.

Description: Application of AEP Texas Central Company to issue securities.

Filed Date: 01/30/2009.

Accession Number: 20090130-5044.

Comment Date: 5 p.m. Eastern Time on Friday, February 20, 2009.

Docket Numbers: ES09-13-000.

Applicants: PJM Interconnection L.L.C.

Description: Application of PJM Interconnection L.L.C. under Section 204 for an Order Authorizing the Issuance of Securities.

Filed Date: 01/30/2009.

Accession Number: 20090130-5214.

Comment Date: 5 p.m. Eastern Time on Friday, February 20, 2009.

Docket Numbers: ES09-14-000.

Applicants: PJM Interconnection L.L.C.

Description: Application of PJM Interconnection L.L.C. under Section 204 for an Order Authorizing the Issuance of Securities.

Filed Date: 01/30/2009.

Accession Number: 20090130-5217.

Comment Date: 5 p.m. Eastern Time on Friday, February 20, 2009.

Docket Numbers: ES09-15-000.

Applicants: Old Dominion Electric Cooperative, Inc.

Description: Application of Old Dominion Electric Cooperative for Extension of Authorization to Issue Debt with a Maturity of One Year or Less.

Filed Date: 01/30/2009.

Accession Number: 20090130-5250.

Comment Date: 5 p.m. Eastern Time on Friday, February 20, 2009.

Take notice that the Commission received the following open access transmission tariff filings:

Docket Numbers: OA08-39-002.

Applicants: American Electric Power Service Corporation.

Description: American Electric Power Service Corporation submits Substitute Second Third Revised Sheet 30 et al. to FERC Electric Tariff, Third Revised Volume 6 to show changes to Section 2.2 of the AEP OATT required by Order 890-A etc.

Filed Date: 01/29/2009.

Accession Number: 20090202-0528.

Comment Date: 5 p.m. Eastern Time on Thursday, February 19, 2009.

Docket Numbers: OA08-78-002.

Applicants: MidAmerican Energy Company.

Description: Compliance Filing of MidAmerican Energy Company to conform OATT to Order No. 890-A as clarified by the Dec. 30, 2008 Order.

Filed Date: 01/29/2009.

Accession Number: 20090129-5044.

Comment Date: 5 p.m. Eastern Time on Thursday, February 19, 2009.

Take notice that the Commission received the following public utility holding company filings:

Docket Numbers: PH09-15-000.

Applicants: South Jersey Industries, Inc.

Description: FERC 65A: Exemption Notification of South Jersey Industries, Inc.

Filed Date: 01/30/2009.

Accession Number: 20090130-5140.

Comment Date: 5 p.m. Eastern Time on Friday, February 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-2606 Filed 2-6-09; 8:45 am]

BILLING CODE 6717-01-P